FEDERAL COMMUNICATIONS COMMISSION

[CC Docket No. 96-45; DA 01-1713]

Certifications Required Pursuant to the Children's Internet Protection Act; Approval of FCC Forms 479 and 486 by the Office of Management and Budget

AGENCY: Federal Communications Commission.

ACTION: Notice of OMB approval of reporting forms.

SUMMARY: This document announces that the FCC Forms 479 (Certification by Administrative Authority to Billed Entity of Compliance with the Children's Internet Protection Act) and 486 (Receipt of Service Confirmation Form) and instructions have been approved by the Office of Management and Budget. The Form 486 informs the Schools and Libraries Division of the Universal Service Administrative Company when the Billed Entity and/or the eligible entities that it represents is receiving, is scheduled to receive, or has received service in the relevant Funding Year from the named Service Provider(s). The Form 479 is a new form that provides notification to a Billed Entity by an Administrative Authority of the status of the Administrative Authority's compliance for the purposes of Children's Internet Protection Act.

DATES: FCC Forms 479 and 486 and instructions were approved on July 2, 2001.

FOR FURTHER INFORMATION CONTACT: Narda Jones, Attorney, or Jonathan Secrest, Attorney, Accounting Policy Division, Common Carrier Bureau, (202) 418-7400, TTY: (202) 418-0484.

SUPPLEMENTARY INFORMATION: The Common Carrier Bureau of the Federal Communications Commission announces the release of two newly-adopted FCC forms and their instructions for the schools and libraries universal service support mechanism, incorporating the requirements of the Children's Internet Protection Act (CIPA) (Public Law 106-554). That act provides that schools and libraries that have computers with Internet access must certify that they have in place certain Internet safety policies and technology protection measures in order to be eligible under section 254(h) of the Communications Act of 1934, as amended, to receive discounted Internet access or internal connection services.

The FCC Form 486 Receipt of Service Confirmation Form, which has been modified to include certifications required by CIPA, is used by the Billed Entity that filed an FCC Form 471 requesting discounts under the program. The Form 486 informs the Schools and Libraries Division (SLD) of the Universal Service Administrative Company when the Billed Entity and/or the eligible entities that it represents is receiving, is scheduled to receive, or has received service in the relevant Funding Year from the named Service Provider(s). Receipt by SLD of a properly completed Form 486 triggers the process for SLD to receive invoices.

FCC Form 479, the Certification by Administrative Authority to Billed Entity of Compliance with the Children's Internet Protection Act, is a new form that provides notification to a Billed Entity by an Administrative Authority of the status of the Administrative Authority's compliance for the purposes of CIPA. The Billed Entity will then certify on its FCC Form 486, Receipt of Service Confirmation Form, that it has collected duly completed and signed Forms 479 from Administrative Authorities that the Billed Entity represents.

These forms are designed in accordance with the rules that the Commission adopted in Federal-State Joint Board on Universal Service, Children's Internet Protection Act, 66 FR 19394, April 16, 2001, corrected at 66 FR 22133, May 3, 2001. As stated in the Order, those rules became effective on April 20, 2001. The information collections contained in the rules were approved by the Office of Management and Budget on July 2, 2001, OMB No. 3060-0853. The forms and instructions may be obtained at the SLD website, <http://www.sl.universalservice.org/>, or by contacting the SLD Client Service Bureau at (888) 203-8100.

Dated: July 19, 2001.
Mark G. Seifert,
Deputy Division Chief, Accounting Policy Division.

[FR Doc. 01-18752 Filed 7-27-01; 8:45 am]

BILLING CODE 6712-01-P